DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: September 22, 2016, 10:00 a.m.

PLACE: Room 2C, 888 First Street NE., Washington, DC 20426.

STATUS: Open.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1030th—Meeting
[Regular Meeting; September 22, 2016; 10:00 a.m.]
Item No. | Docket No. | Company
ADMINISTRATIVE
A-1 | AD16-1-000 | Agency Administrative Matters.
A-2 | AD16-7-000 | Customer Matters, Reliability, Security and Market Operations.
ELECTRIC
E-1 | RM01-8-000 | Filing Requirements for Electric Utility Service Agreements.
| RM10-12-000 | Electricity Market Transparency Provisions of Section 220 of the Federal Power Act.
| RM12-3-000 | Revisions to Electric Quarterly Report Filing Process.
| ER02-2001-000 | Electric Quarterly Reports.
E-2 | RM16-21-000 | Modifications to Commission Requirements for Review of Transactions under Section 203 of the Federal Power Act and Market-Based Rate Applications under Section 205 of the Federal Power Act.
E-3 | EL14-34-003 | Public Service Commission of Wisconsin v. Midcontinent Independent System Operator, Inc.
| ER14-1242-005, ER14-1243-007, ER14-1724-003, ER14-1725-003, ER14-2176-003, ER14-2180-003, ER14-2860-002, ER14-2862-002, ER14-2952-002, ER14-2952-005 | Midcontinent Independent System Operator, Inc.
| EL15-7-001 | Michigan Public Service Commission v. Midcontinent Independent System Operator, Inc.
E-4 | RM15-11-000 | Reliability Standard for Transmission System Planned Performance for Geomagnetic Disturbance Events.
E-5 | RM16-13-000 | Balancing Authority Control, Inadvertent Interchange, and Facility Interconnection Reliability Standards.
E-6 | RD16-6-000 | North American Electric Reliability Corporation.
E-7 | ER12-1266-005, ER12-1266-006 | Midcontinent Independent System Operator, Inc.
E-8 | ER12-1265-005, ER12-1265-006 | Midcontinent Independent System Operator, Inc.
E-9 | ER16-197-002 | Midcontinent Independent System Operator, Inc.
E-10 | ER11-1844-001, ER11-1844-002 | Midwest Independent Transmission System Operator, Inc.
E-11 | ER14-1831-003 | PJM Interconnection, L.L.C., Virginia Electric and Power Company.
E-12 | ER10-1350-006 | Entergy Services, Inc.
E-13 | ER10-1350-005 | Entergy Services, Inc.
E-14 | ER16-1169-000 | Ameren Illinois Company.
E-15 | EC16-135-000 | AEP Texas Central Company, AEP Texas North Company, AEP Utilities, Inc.
E-16 | AC15-174-001 | Duke Energy Carolinas, LLC, Duke Energy Progress, LLC, Duke Energy Florida, LLC.
E-17 | EL13-41-001 | Occidental Chemical Corporation v. Midwest Independent Transmission System Operator, Inc.
GAS
G-1 | OMITTED |
G-2 | RP16-299-000, RP16-1137-000 (not consolidated) | Tuscarora Gas Transmission Company.
G-3 | RP16-302-000 | Columbia Gulf Transmission, LLC.
G-4 | PR15-5-002, RP15-238-000 | Washington Gas Light Company.
G-5 | RP16-1082-000 | Columbia Gas Transmission, LLC.
HYDRO
H-1 | EL16-50-000 | Percheron Power, LLC.
H-2 | P-12715-008 | Fairlawn Hydroelectric Company, LLC.
H-3 | P-2212-049 | Domtar Paper Company, LLC.
CERTIFICATES
C-1 | CP16-64-000 | ANR Pipeline Company.
C-2 | CP16-78-000 | Kinetica Deepwater Express, LLC.

Dated: September 15, 2016.
Kimberly D. Bose,
Secretary.

A free webcast of this event is available through www.ferc.gov. Anyone with Internet access who desires to view this event can do so by navigating to www.ferc.gov' s Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2016-22686 Filed 9-16-16; 11:15 am]

BILLING CODE 6717-01-P